DEPARTMENT OF AGRICULTURE

Agricultural Marketing Service

[Docket No. FV-05-308]

United States Standards for Grades of Pea Pods

AGENCY: Agricultural Marketing Service, USDA.

ACTION: Notice.

SUMMARY: The Agricultural Marketing Service (AMS) of the Department of Agriculture (USDA) is establishing voluntary United States Standards for Grades of Pea Pods. The standards will provide industry with a common language and uniform basis for trading, thus promoting the orderly and efficient marketing of pea pods.

DATES: Effective Date: January 22, 2007.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or e-mail Cheri.Emery@usda.gov.

The United States Standards for Grades of Pea Pods are available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture, “To develop and improve standards of quality, condition, quantity, grade and packaging and recommend and demonstrate such standards in order to encourage uniformity and consistency in commercial practices.” AMS is committed to carrying out this authority in a manner that facilitates the marketing of agricultural commodities and provides copies of official standards upon request. The United States Standards for Grades of Fruits and Vegetables not connected with Federal Marketing Orders or U.S. Import Requirements, no longer appear in the Code of Federal Regulations, but are maintained by USDA, AMS, Fruit and Vegetable Programs.

AMS established the voluntary United States Standards for Grades of Pea Pods using the procedures that appear in part 36, title 7 of the Code of Federal Regulations (7 CFR part 36).

Background

AMS developed a proposed U.S. Standards for Grades of Pea Pods. The proposal would establish U.S. Fancy and U.S. No. 1 “Grades,” “Tolerances,” and “Application of Tolerances” sections. Additionally, this proposal defines: “Injury,” “Damage,” “Serious Damage,” and basic requirements.

On January 24, 2006, a notice was published in the Federal Register (71 FR 3817), requesting comments on proposed voluntary United States Standards for Grades of Pea Pods, with the comment period ending on March 27, 2006.

A request was received from a packer/shipper of pea pods, expressing the need for additional time to review the proposed U.S. Standards. The packer/shipper requested an extension to the comment period to allow them the opportunity to submit comments. After reviewing the request, AMS reopened and extended the comment period by publishing a notice in the Federal Register, May 22, 2006 (71 FR 29606), extending the period for comment to June 22, 2006.

AMS received one other response to the proposed standards. The comment was from an industry group representing about 90 percent of the fresh vegetables produced in California and Arizona. The association expressed support for the development of the standards for pea pods.

The comments are available by accessing the AMS, Fresh Products Branch Web site at: http://www.ams.usda.gov/fv/fpbdocketlist.htm.

Based on the comment received, specifically concerning the development of the standards and information gathered, AMS believes the standards will provide a common language for trading and promote the orderly and efficient marketing of pea pods. The official grades of pea pod lots covered by these standards will be determined by the procedures set forth in the Regulations Governing Inspection, Certification, and Standards of Fresh Fruits, Vegetables, and Other Products (Sec. 51.1 to 51.61).

The United States Standards for Grades of Pea Pods will be effective 30 days after publication of this notice in the Federal Register.

\

Authority: 7 U.S.C. 1621-1627.

Dated: December 15, 2006.
Lloyd C. Day,
Administrator, Agricultural Marketing Service.

[FR Doc. E6-21840 Filed 12-20-06; 8:45 am]

BILLING CODE 3410-02-P